DEPARTMENT OF COMMERCE

International Trade Administration

Washington University

Notice of Decision on Application for Duty-Free Entry of Scientific Instruments

This is a decision pursuant to Section 6(c) of the Educational, Scientific, and Cultural Materials Importation Act of 1966 (Pub. L. 89-651, as amended by Pub. L.106-36; 80 Stat. 897; 15 CFR part 301). Related records can be viewed between 8:30 A.M. and 5:00 P.M. in Room 2104, U.S. Department of Commerce, 14th and Constitution Ave, NW, Washington, D.C.

Comments: None received. Decision: Approved. We know of no instruments of equivalent scientific value to the foreign instrument described below, for such purposes as the instrument is intended to be used, that was being manufactured in the United States at the time of its order.

Docket Number: 08-018. Applicant: Washington University, St. Louis, MO 63130. Instrument: Modular Hot Cell - COMECER Model MIP1-1P-1350. Manufacturer: COMECER, Italy. Intended Use: See notice at 73 FR 30377, May 27, 2008. Reasons: The instrument has a sealed system for isotope work which is separated from the shielded door, which allows for the opening of the door for training purposes without compromising the work area air quality. The separate shield and door design also insures that the door is not contaminated, and thus, the user can open the door to survey the hot cell for radioactivity without the risk of contamination to the user and trainees. This safety feature is specific to this instrument and not available from other U.S. manufacturers.

Dated: August 12, 2008.
Faye Robinson,
Director.
Statutory Import Programs Staff Import Administration.

[FR Doc. E8-19098 Filed 8-15-08; 8:45 am]

BILLING CODE 3510-DS-S